FEDERAL COMMUNICATIONS COMMISSION

Notice of Public Information Collection(s) Being Reviewed by the Federal Communications Commission

August 8, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 17, 2001. If you anticipate that you will be submitting comments, but find it difficult to do so within the period of time allowed by this notice, you should advise the contact listed below as soon as possible.

ADDRESSES: Direct all comments to Judy Boley, Federal Communications Commission, Room 1-C804, 445 12th Street, SW., Washington, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0804.

Title: Universal Service—Health Care Providers Universal Service Program.

Form No.: FCC Forms 465, 466, 466-A, 467, and 468.

Type of Review: Extension of currently approved collection.

Respondents: Not for profit institutions; Business or other for-profit.

Number of Respondents: 5,255.

Estimated Time Per Response: 1.85 hours (average).

Frequency of Response: On occasion reporting requirement.

Total Annual Burden: 9,755 hours.

Total Annual Cost: $0.

Needs and Uses: The Commission adopted rules providing support for all telecommunications services, Internet access, and internal connections for all eligible health care providers. Health care providers who want to participate in the universal service program must file several forms, including FCC Forms 465, 466, 466-A, and 468. FCC Form 465, Description of Service Requested and Certification is filed by rural health care providers to certify their eligibility to receive discounted telecommunications services. FCC Form 466, Funding Request and Certification, is used to ensure health care providers have selected the most cost-effective method of providing the requested services. FCC Form 466-A is filed by rural health care providers seeking support only for toll charges to access the Internet. FCC Form 467, Connection Certification, is filed by rural health care providers to inform the Administrator that they have begun to receive, or have stopped receiving, the telecommunications services for which universal service support has been allocated. FCC Form 468, Telecommunications Carrier Form, is submitted by rural health care providers to ensure that the telecommunications carrier receives the appropriate amount of credit for providing telecommunications services to eligible health care providers.

Federal Communications Commission.
Magalie Roman Salas,
Secretary.

[FR Doc. 01-20602 Filed 8-15-01; 8:45 am]

BILLING CODE 6712-01-P